DEPARTMENT OF TRANSPORTATION

Federal Aviation Administration

14 CFR Part 39

[Docket No. FAA-2022-0020; Project Identifier MCAI-2021-00784-R]

RIN 2120-AA64

Airworthiness Directives; Hélicoptères Guimbal Helicopters

AGENCY: Federal Aviation Administration (FAA), DOT.

ACTION: Notice of proposed rulemaking (NPRM).

SUMMARY: The FAA proposes to supersede Airworthiness Directive (AD) 2021-02-20, which applies to certain Hélicoptères Guimbal Model Cabri G2 helicopters. AD 2021-02-20 requires initial and repetitive inspections of certain rotating and non-rotating scissor fittings, and depending on the results, replacing the affected assembly. AD 2021-02-20 also prohibits installing certain main rotor hubs (MRHs) and swashplate guides unless the initial inspection has been accomplished. Since the FAA issued AD 2021-02-20, the MRH and swashplate guide have been redesigned to include a certain part-numbered scissor fitting. This proposed AD would retain certain requirements of AD 2021-02-20, require installation of newly designed parts, provide a terminating action for the initial and repetitive inspections, and revise the applicability. This proposed AD would also extend the repetitive inspection interval and prohibit installing certain MRHs and swashplate guides. The FAA is proposing this AD to address the unsafe condition on these products.

DATES: The FAA must receive comments on this proposed AD by March 17, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Hélicoptères Guimbal, 1070, rue du Lieutenant Parayre, Aérodrome d'Aix-en-Provence, 13290 Les Milles, France; telephone 33-04-42-39-10-88; email support@guimbal.com; or at https://www.guimbal.com. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2022-0020; or in person at Docket Operations between 9 a.m. and 5 p.m., Monday through Friday, except Federal holidays. The AD docket contains this NPRM, the European Union Aviation Safety Agency (EASA) AD, any comments received, and other information. The street address for Docket Operations is listed above.

FOR FURTHER INFORMATION CONTACT: Darren Gassetto, Aerospace Engineer, COS Program Management Section, Operational Safety Branch, Compliance & Airworthiness Division, FAA, 1600 Stewart Ave., Suite 410, Westbury, NY 11590; telephone (516) 228-7323; email Darren.Gassetto@faa.gov.

SUPPLEMENTARY INFORMATION:

Comments Invited

The FAA invites you to send any written relevant data, views, or arguments about this proposal. Send your comments to an address listed under ADDRESSES. Include “Docket No. FAA-2022-0020; Project Identifier MCAI-2021-00784-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Darren Gassetto, Aerospace Engineer, COS Program Management Section, Operational Safety Branch, Compliance & Airworthiness Division, FAA, 1600 Stewart Ave., Suite 410, Westbury, NY 11590; telephone (516) 228-7323; email Darren.Gassetto@faa.gov. Any commentary that the FAA receives which is not specifically designated as CBI will be placed in the public docket for this rulemaking.

Background

The FAA issued AD 2021-02-20, Amendment 39-21403 (86 FR 8299, February 5, 2021), (AD 2021-02-20), for Hélicoptères Guimbal Model Cabri G2 helicopters, with rotating or non-rotating scissor fitting part number (P/N) G12-00-200, installed on the MRH or swashplate guide, respectively. AD 2021-02-20 requires within 30 hours time-in-service (TIS) or 30 calendar days, whichever occurs first, inspecting each rotating and non-rotating scissor fitting with the bolts connecting the scissor fittings removed. For this initial inspection, AD 2021-02-20 requires removing the cotter pins and bolts that connect the two scissor fittings, cleaning the outside surface of each scissor fitting, and using a flashlight to visually inspect each scissor fitting for a crack.

AD 2021-02-20 also requires, at intervals not to exceed 50 hours TIS or 6 months, whichever occurs first, repetitive inspections of each scissor fitting without removing the bolts and separating the two scissor fittings. For these repetitive inspections, AD 2021-02-20 requires cleaning each scissor fitting, and while using a flashlight, visually inspecting each scissor fitting for a crack. If, during any inspection, there is a crack, AD 2021-02-20 requires replacing the MRH or swashplate guide, as applicable, before further flight. AD 2021-02-20 also prohibits installing an MRH or swashplate guide with an affected scissor fitting installed, even if new, unless the initial inspection has been accomplished.

AD 2021-02-20 was prompted by EASA AD 2020-0199, dated September 21, 2020, and corrected September 24, 2020 (EASA AD 2020-0199), issued by EASA, which is the Technical Agent for the Member States of the European Union, to correct an unsafe condition for Hélicoptères Guimbal (HG) Model Cabri G2 helicopters, all serial numbers. EASA advised of a report of a crack in a rotating scissor fitting discovered during maintenance. According to EASA, the suspected root cause of the crack was corrosion under residual stress. This condition, if not addressed, could result in failure of the rotating or non-rotating scissor fitting on either the MRH or the swashplate guide, and subsequent loss of control of the helicopter.

Accordingly, EASA AD 2020-0199 required an initial and repetitive inspections of the rotating and non-rotating scissor fittings P/N G12-00-200 installed on the MRH or swashplate guide, respectively. If a crack was detected, EASA AD 2020-0199 required replacing the affected MRH or swashplate guide with a serviceable part. EASA AD 2020-0199 prohibited installing certain MRHs and swashplate guides unless the initial inspection was accomplished.

Actions Since AD 2021-02-20 Was Issued

Since the FAA issued AD 2021-02-20, EASA issued AD 2021-0155, dated July 2, 2021 (EASA AD 2021-0155), which supersedes EASA AD 2020-0199. EASA advises a design change was developed for the MRH and swashplate guide including installation instructions for the modification. EASA AD 2021-0155 advises the design change requires installing new scissor fitting P/N G12-00-202, which is not affected by stress corrosion cracking. EASA AD 2021-0155 further advises once a helicopter installs a certain part-numbered MRH and a certain part-numbered swashplate guide containing the newly designed scissor fitting, HG modification (mod) 20-040 is accomplished.

Accordingly, EASA AD 2021-0155 retains the requirements of EASA AD 2020-0199, and requires replacement of the MRH and swashplate guide assemblies with assemblies equipped with the newly designed scissor fitting. EASA AD 2021-0155 also increases the interval for the repetitive inspection and prohibits any affected part to be installed on any helicopter that has HG mod 20-040 installed. EASA AD 2021-0155 allows a terminating action for the initial and repetitive inspections if the helicopter has been modified and includes the updated modification information.

After AD 2021-02-20 was issued, the FAA determined the applicability should be revised to apply to all HG Model Cabri G2 helicopters rather than be limited to only the helicopters with the affected scissor fitting installed. Therefore, the FAA revised the Applicability paragraph of this proposed AD.

FAA's Determination

These helicopters have been approved by EASA and are approved for operation in the United States. Pursuant to the FAA's bilateral agreement with the European Union, EASA has notified the FAA about the unsafe condition described in its AD. The FAA is proposing this AD after evaluating all known relevant information and determining that the unsafe condition described previously is likely to exist or develop on other products of these same type designs.

Related Service Information Under 1 CFR Part 51

The FAA reviewed Guimbal Service Bulletin SB 20-012, Revision C; SB 20-011, Revision D; and SB 21-007 Revision C, each dated July 22, 2021 (SB 20-012 Rev C, SB 20-011 Rev D, and SB 21-007 Rev C). SB 20-012 Rev C specifies removing the bolts connecting the two scissor fittings P/N G12-00-200 and accomplishing a one-time detailed inspection for a crack in certain areas. SB 20-012 Rev C also specifies reassembling the two scissor fittings using correct bolt torque limits, installing new cotter pins, and reporting any findings to HG customer support.

SB 20-011 Rev D specifies procedures for a recurring inspection after accomplishment of SB 20-012 Rev C of the same areas of the scissor fittings for a crack as SB 20-012 Rev C, except without removing the bolts which connect the two scissor fittings. SB 20-011 Rev D also specifies reporting any findings to HG customer support. SB 21-007 Rev C specifies instructions for installing the newly designed scissor fitting. This proposed AD would also require Guimbal Service Bulletin SB 20-012, Revision B, dated October 5, 2020 (SB 20-012 Rev B), which the Director of the Federal Register approved for incorporation by reference as of February 22, 2021 (86 FR 8299, February 5, 2021).

This service information is reasonably available because the interested parties have access to it through their normal course of business or by the means identified in the ADDRESSES section.

Other Related Service Information

The FAA also reviewed Guimbal Service Bulletin SB 20-011, Revision C, dated October 5, 2020 (SB 20-011 Rev C). SB 20-011 Rev C specifies the same procedures as SB-20-011 Rev D, except SB 20-011 Rev D updates the applicability and references SB 21-007 Rev C.

The FAA reviewed Guimbal Service Bulletin SB 20-011, Revision B, and SB 20-012, Revision A, each dated September 1, 2020 (SB 20-011 Rev B and SB 20-012 Rev A). SB 20-012 Rev A specifies the same procedures as SB 20-012 Rev B, except SB 20-012 Rev B revises the compliance time, adds the EASA AD identification information, and updates the Situation section description. SB 20-011 Rev B specifies the same procedures as SB 20-011 Rev C, except SB 20-011 Rev C adds the EASA AD identification information and updates the Situation section description.

The FAA also reviewed Guimbal Service Bulletin SB 21-007, Revision B, dated April 4, 2021 which states the same procedures as SB 21-007 Rev C, except SB 21-007 Rev C revises the compliance time to coincide with the effective date of EASA AD 2021-0155.

Proposed AD Requirements in This NPRM

This proposed AD would retain certain inspection and corrective action requirements of AD 2021-02-20. This proposed AD would also require within 60 hours TIS or 6 months, whichever occurs first after the effective date of this proposed AD, and thereafter at intervals not to exceed 60 hours TIS or 6 months, whichever occurs first, leaving each scissor fitting assembled and visually inspecting each scissor fitting for a crack. If there is a crack during the initial inspection or the recurring inspection, this proposed AD would require before further flight, replacing certain parts or as an alternative, installing HG mod 20-040.

This proposed AD would also require, within 60 months or during the next main gearbox overhaul, whichever occurs first after the effective date of this proposed AD, removing from service MRH P/N G12-00-100, or G12-00-101, or G12-00-102 and swashplate guide P/N G21-01-101 or G21-01-102 and installing HG mod 20-040. This proposed AD would also consider installing HG mod 20-040 to be a terminating action for the initial and recurring visual inspections required by this proposed AD.

For any pre-HG mod 20-040 helicopter, as of February 22, 2021 (the effective date of AD 2021-02-20), this proposed AD would prohibit installing an MRH or swashplate guide, with a certain part-numbered rotating or non-rotating scissor fitting installed, unless certain actions have been accomplished. For any post-HG mod 20-040 helicopter, as of the effective date of this AD, this proposed AD would prohibit installing an MRH or swashplate guide, with a certain part-numbered rotating or non-rotating scissor fitting installed, on any helicopter.

Differences Between This Proposed AD and EASA AD 2021-0155

EASA AD 2021-0155 requires detailed inspections, whereas this proposed AD would require cleaning each scissor fitting and visually inspecting each scissor fitting using a flashlight. EASA AD 2021-0155 also requires reporting certain information, whereas this proposed AD would not. EASA AD 2021-0155 requires replacing certain parts if a crack is detected with serviceable parts, whereas this proposed AD would require replacing certain parts with airworthy parts.

Costs of Compliance

The FAA estimates that this AD, if adopted as proposed, would affect 32 helicopters of U.S. Registry. Labor rates are estimated at $85 per work-hour. Based on these numbers, the FAA estimates the following costs to comply with this proposed AD.

Removing and installing the bolt and cotter pins in the initial inspection would take a minimal amount of time with a minimal parts cost.

Inspecting each scissor fitting would take about 0.5 work-hours for an estimated cost of $43 per fitting, per inspection cycle. There are 2 scissor fittings installed on a helicopter, for an estimated cost of $85 per helicopter and $2,720 for the U.S. fleet, per inspection cycle.

Removing an MRH and swashplate guide and installing the improved MRH and swashplate guide would take about 6 work-hours and parts would cost about $1,608 through the parts exchange program for an estimated cost of $2,118 per helicopter and $67,776 for the U.S. fleet. The FAA expects the majority of operators would use the parts exchange program. If not accomplished through the parts exchange program, an improved MRH and swashplate guide would cost about $8,695 for an estimated cost of $9,205 per helicopter and $294,560 for the U.S. fleet.

The FAA estimates the following costs to do any necessary on-condition replacements that would be required based on the results of the inspection. The agency has no way of determining the number of aircraft that might need these on-condition replacements:

Replacement of an MRH due to a crack in the scissor fitting with an airworthy MRH would take about 5 work-hours and parts would cost about $7,360 for an estimated cost of $7,785 per helicopter; and replacement of a swashplate guide due to a crack in the scissor fitting with an airworthy swashplate guide would take about 6 work-hours and parts would cost about $1,312 for an estimated cost of $1,822 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-02-20, Amendment 39-21403 (86 FR 8299, February 5, 2021); and

b. Adding the following new airworthiness directive:

Hélicoptères Guimbal: Docket No. FAA-2022-0020; Project Identifier MCAI-2021-00784-R.

(a) Comments Due Date

The FAA must receive comments on this airworthiness directive (AD) action by March 17, 2022.

(b) Affected ADs

This AD replaces AD 2021-02-20, Amendment 39-21403 (86 FR 8299, February 5, 2021) (AD 2021-02-20).

(c) Applicability

This AD applies to Hélicoptères Guimbal (HG) Model Cabri G2 helicopters, all serial numbers, certificated in any category.

(d) Subject

Joint Aircraft Service Component (JASC) Code: 6700, Rotorcraft Flight Control; 6710, Main Rotor Control.

(e) Unsafe Condition

This AD was prompted by a report of a crack in a rotating scissor fitting. The FAA is issuing this AD to detect a crack and prevent failure of a scissor fitting. The unsafe condition, if not addressed, could result in failure of a rotating or non-rotating scissor fitting and subsequent loss of control of the helicopter.

(f) Compliance

Comply with this AD within the compliance times specified, unless already done.

(g) Required Actions

For helicopters with rotating or non-rotating scissor fitting part number (P/N) G12-00-200, installed on the main rotor hub (MRH) or swashplate guide, respectively: (1) Within 30 hours time-in-service (TIS) or 30 calendar days, whichever occurs first after February 22, 2021 (the effective date of AD 2021-02-20):

(i) Remove the cotter pins and bolts connecting the rotating and non-rotating scissor fitting by following the Required Actions, IPC 4.1-2 a), of Guimbal Service Bulletin SB 20-012, Revision B, dated October 5, 2020 (SB 20-012 Rev B). Remove the cotter pins from service. Clean each scissor fitting. Using a flashlight, visually inspect each scissor fitting by following the Required Actions, IPC 4.1-2 b), of SB 20-012 Rev B. As an alternative to using SB 20-012 Rev B, you may remove the cotter pins and bolts in accordance with the Required Actions, IPC 4.1-2 a), of Guimbal Service Bulletin SB 20-012, Revision C, dated July 22, 2021 (SB 20-012 Rev C), and visually inspect each scissor fitting in accordance with the Required Actions, IPC 4.1-2 b), of SB 20-012 Rev C.

(ii) If there is a crack, before further flight, replace the MRH or swashplate guide with an airworthy part as applicable; or, as an alternative, you may accomplish the modification specified in paragraph (g)(3) of this AD.

(iii) If there is not a crack, reassemble the scissor fittings by following the Required Actions, IPC 4.1-2 c), of SB 20-012 Rev B. As an alternative to using SB 20-012 Rev B, you may reassemble the scissor fittings in accordance with the Required Actions, IPC 4.1-2 c), of SB 20-012 Rev C.

(2) Thereafter, within 60 hours TIS or 6 months, whichever occurs first after the effective date of this AD, and thereafter at intervals not to exceed 60 hours TIS or 6 months, whichever occurs first:

(i) Leaving each rotating and non-rotating scissor fitting assembled, clean each scissor fitting. Using a flashlight, visually inspect each scissor fitting by following the Required Actions, IPC 4.1-2 a), of Guimbal Service Bulletin SB 20-011, Revision D, dated July 22, 2021.

(ii) If there is a crack, before further flight, replace the MRH or swashplate guide, with an airworthy part as applicable; or, as an alternative, you may accomplish the modification specified in paragraph (g)(3) of this AD.

(3) Within 60 months, or during the next main gearbox overhaul, whichever occurs first after the effective date of this AD, remove MRH P/N G12-00-100, or G12-00-101, or G12-00-102 and swashplate guide P/N G21-01-101 or G21-01-102 from service and modify your helicopter by installing MRH P/N G12-00-103 and swashplate guide P/N G21-01-103 containing scissor fitting P/N G12-00-202 (HG modification (mod) 20-040) by following the Required Actions, IPC 2.1-0 a) through k) and m) through aa) of Guimbal Service Bulletin SB 21-007, Revision C, dated July 22, 2021.

Note 1 to paragraph (g)(3): HG mod 20-040, as referenced in paragraphs (g)(3), and (h)(1) and (2) of this AD, is accomplished after installation of MRH P/N G12-00-103 and swashplate guide P/N G21-01-103 containing scissor fitting P/N G12-00-202.

(4) Completing the actions required by paragraph (g)(3) of this AD constitutes a terminating action for the requirements in paragraphs (g)(1) and (2) of this AD.

(h) Parts Installation

(1) For any pre-HG mod 20-040 helicopter: As of February 22, 2021 (the effective date of AD 2021-02-20), do not install an MRH or swashplate guide, with rotating or non-rotating scissor fitting P/N G12-00-200 installed, respectively, on any helicopter, even if new, unless the actions required by paragraph (g)(1) of this AD have been accomplished.

(2) For any post-HG mod 20-040 helicopter: As of the effective date of this AD, do not install an MRH or swashplate guide, with rotating or non-rotating scissor fitting P/N G12-00-200 installed, respectively, on any helicopter.

(i) Credit for Previous Actions

(1) This paragraph provides credit for the actions required by paragraph (g)(1) of this AD if you accomplished Guimbal Service Bulletin SB 20-012, Revision A, dated September 1, 2020, before February 22, 2021 (the effective date of AD 2021-02-20).

(2) This paragraph provides credit for the first instance of the actions required by paragraph (g)(2) of this AD if you accomplished Guimbal Service Bulletin SB 20-011, Revision B, dated September 1, 2020, before February 22, 2021 (the effective date of AD 2021-02-20).

(3) This paragraph provides credit for the actions required by paragraph (g)(2) of this AD if you accomplished Guimbal Service Bulletin SB 20-011, Revision C, dated October 5, 2020, before the effective date of this AD.

(4) This paragraph provides credit for the actions required by paragraph (g)(3) of this AD if you accomplished Guimbal Service Bulletin SB 21-007, Revision B, dated April 4, 2021, before the effective date of this AD.

(j) Special Flight Permits

A special flight permit may be permitted provided that there are no passengers onboard, and the flight is operating under day Visual Flight Rules, for the purpose of ferrying the helicopter to an authorized maintenance facility.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l)(1) of this AD. Information may be emailed to: 9-AVS-AIR-730-AMOC@faa.gov.

(2) Before using any approved AMOC, notify your appropriate principal inspector, or lacking a principal inspector, the manager of the local flight standards district office/certificate holding district office.

(l) Related Information

(1) For more information about this AD, contact Darren Gassetto, Aerospace Engineer, COS Program Management Section, Operational Safety Branch, Compliance & Airworthiness Division, FAA, 1600 Stewart Ave., Suite 410, Westbury, NY 11590; telephone (516) 228-7323; email Darren.Gassetto@faa.gov.

(2) For service information identified in this AD, contact Hélicoptères Guimbal, 1070, rue du Lieutenant Parayre, Aérodrome d'Aix-en-Provence, 13290 Les Milles, France; telephone 33-04-42-39-10-88; email support@guimbal.com; web https://www.guimbal.com. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD 2021-0155, dated July 2, 2021. You may view the EASA AD on the internet at https://www.regulations.gov in Docket No. FAA-2022-0020.

Issued on January 25, 2022.
Lance T. Gant,
Director, Compliance & Airworthiness Division, Aircraft Certification Service.

[FR Doc. 2022-01829 Filed 1-28-22; 8:45 am]

BILLING CODE 4910-13-P